FEDERAL COMMUNICATIONS COMMISSION

47 CFR Part 64

[CG Docket No. 03-123; WC Docket No. 05-196; FCC 08-275]

Telecommunications Relay Services, Speech-to-Speech Services, E911 Requirements for IP-Enabled Service Providers

AGENCY: Federal Communications Commission.

ACTION: Final rule.

SUMMARY: The Commission addressed several issues relating to the Commission's Internet-based TRS Order, which adopted a system to assign users of Internet-based Telecommunications Relay Service (TRS), specifically Video Relay Service (VRS) and Internet-Protocol (IP) Relay, ten-digit numbers linked to the North American Numbering Plan (NANP).

DATES: Effective December 31, 2008, except for the information collection requirements contained in § 64.605 that are not effective until approved by the Office of Management and Budget (OMB). The Federal Communications Commission (Commission) will publish a document in the Federal Register announcing the effective date for the information collections in this section.

ADDRESSES: Federal Communications Commission, 445 12th Street, SW., Washington, DC 20554.

FOR FURTHER INFORMATION CONTACT: William Dever, Wireline Competition Bureau, (202) 418-1578.

For additional information concerning the Paperwork Reduction Act information collection requirements contained in this document contact Judith B. Herman at (202) 418-0214, or via the Internet at PRA@fcc.gov.

SUPPLEMENTARY INFORMATION: This is a summary of the Commission's Report and Order and Order on Reconsideration (Order) in CG Docket No. 03-123, and WC Docket Nos. 05-196, adopted December 19, 2008, and released December 19, 2008. The text of this document is available for inspection and copying during normal business hours in the FCC Reference Information Center, Portals II, 445 12th Street, SW., Room CY-A257, Washington, DC 20554. This document may also be purchased from the Commission's duplicating contractor, Best Copy and Printing, Inc., 445 12th Street, SW., Room CY-B402, Washington, DC 20554, telephone (800) 378-3160 or (202) 863-2893, facsimile (202) 863-2898, or via e-mail at www.bcpiweb.com. It is also available on the Commission's Web site at http://www.fcc.gov.

In addition to filing comments with the Office of the Secretary, a copy of any comments on the Paperwork Reduction Act information collection requirements contained herein should be submitted to Judith B. Herman, Federal Communications Commission, Room 1-B441, 445 12th Street, SW., Washington, DC 20554, or via the Internet to PRA@fcc.gov.

The Commission will send a copy of this Order in a report to be sent to Congress and the Government Accountability Office pursuant to the Congressional Review Act, see 5 U.S.C. 801(a)(1)(A).

Final Paperwork Reduction Act of 1995 Analysis

This Order contains new or modified information collection requirements. The Commission, as part of its continuing effort to reduce paperwork burdens, invites the general public to comment on the information collection requirements contained in this R&O as required by the Paperwork Reduction Act of 1995, Public Law 104-13. In addition, the Commission notes that pursuant to the Small Business Paperwork Relief Act of 2002, Public Law 107-198, see 44 U.S.C. 3506(c)(4), the Commission previously sought specific comment on how the Commission might “further reduce the information collection burden for small business concerns with fewer than 25 employees.”

In this Order, the Commission assessed the effects of imposing a requirement that Internet-based TRS providers institute procedures to verify the accuracy of registration information. The Commission took steps to minimize the information collection burden for small business concerns, including those with fewer than 25 employees. For example, Internet-based TRS providers may choose their use of verification procedures. Indeed, the Commission only required that Internet-based TRS providers implement a reasonable means of verifying registration and eligibility information that is not unduly burdensome. Moreover, the Commission concluded that all Internet-based TRS providers, including small entities, will be eligible to receive compensation from the Interstate TRS Fund for their reasonable costs of complying with the verification requirements adopted in the Order. These measures should substantially alleviate any burdens on businesses with fewer than 25 employees.

Synopsis of the Report and Order

1. In this Order, the Commission addresses several issues relating to the Internet-based TRS Order, 73 FR 41286, July 18, 2008, which adopted a system to assign users of Internet-based Telecommunications Relay Service (TRS), specifically Video Relay Service (VRS) and Internet-Protocol (IP) Relay, ten-digit numbers linked to the North American Numbering Plan (NANP). The Commission determined that the numbering system will ensure that VRS and IP Relay users (collectively “Internet-based TRS users”) can be called in the same manner that voice telephone users are called—using a standard ten-digit telephone number—and that emergency calls placed by Internet-based TRS users will be routed directly and automatically to appropriate emergency services authorities by the Internet-based TRS providers. The Commission mandated that the new numbering and emergency call handling plan be implemented by December 31, 2008. In an accompanying Further Notice of Proposed Rulemaking (Further NPRM), 73 FR 41307, July 18, 2008, the Commission sought comment on additional issues relating to the implementation of the ten-digit numbering plan and emergency call handling requirements for Internet-based TRS.

2. The Order addresses issues critical to ensuring a successful transition to ten-digit numbering by December 31, 2008. Specifically, the Commission addresses 911 implementation issues, the timing for user registration, use of toll free numbers for Internet-based TRS service, eligibility requirements and verification procedures, assignment of telephone numbers, and numbering cost issues. The Commission also addresses a petition for reconsideration filed by CSDVRS, GoAmerica, Viable, and Snap; a petition for clarification filed by CSDVRS; a petition for reconsideration and clarification filed by Sorenson regarding 911 and E911 issues; a petition for limited waiver filed by Sorenson regarding the use of “proxy” and “alias” numbers, and a petition for clarification filed by NENA and the Association of Public-Safety Communications Officials International (APCO) concerning the types of information a VRS communications assistant may provide to emergency personnel when relaying an emergency VRS call.

3. Title IV of the Americans with Disabilities Act of 1990 (ADA) requires the creation of a nationwide TRS program to allow persons with hearing and speech disabilities access to the nation's telephone network. TRS must be available to the extent possible and in the most efficient manner, and must offer telephone system access that is “functionally equivalent” to voice telephone services, as reflected in the TRS mandatory minimum standards. The functional equivalency standard serves as the benchmark in determining the services and features TRS providers must offer to consumers. In some circumstances, TRS equipment also permits persons with hearing disabilities to communicate directly with each other (i.e., point-to-point calls).

4. When Congress adopted section 225, relay calls were placed using a text telephone device (TTY) connected to the Public Switched Telephone Network (PSTN). Since then, the Commission has recognized new forms of TRS, including Internet-based forms of TRS such as VRS, IP Relay, and IP CTS. Because Internet-based relay services have not been linked to a uniform telephone numbering scheme and, instead, have used shifting (or “dynamic”) IP addresses, there has been no consistent means by which to reach an Internet-based TRS user. Also, because IP addresses have not necessarily correlated to an Internet-based TRS user's geographic location, there has been no consistent means by which an Internet-based TRS provider can directly and automatically route an Internet-based TRS emergency call to an appropriate public safety answering point (PSAP).

5. The Internet-based TRS Order addressed both of these issues. First, to ensure that voice telephone users can call a VRS or IP Relay user simply by dialing a ten-digit number, i.e., in the same manner that they would call another voice telephone user, the Commission required Internet-based TRS providers to assign NANP telephone numbers to persons who use their service. The Commission determined that Internet-based TRS users should obtain telephone numbers directly from an Internet-based TRS provider, given that such a process is functionally equivalent to the process by which voice telephone subscribers obtain telephone numbers. The Commission also determined that to obtain a telephone number, an Internet-based TRS user must register with his or her selected (or “default”) Internet-based TRS provider. In addition, the Commission extended its local number portability (LNP) obligations to Internet-based TRS providers, so that the full array of obligations relating to the porting of numbers from one service provider to another will apply when an Internet-based TRS user wishes to port his or her telephone number to a new default provider.

6. To make it possible for providers to route a call from a voice telephone user to a VRS or IP Relay user, using the TRS user's ten-digit telephone number, the Commission adopted a central numbering directory mechanism that maps the Internet-based TRS user's ten-digit NANP telephone number to the current Internet address of his or her end device. The Commission concluded that Internet-based TRS providers would provision routing information directly to the central numbering directory on behalf of their registered users. The Commission also determined that this routing information will be in the form of a Uniform Resource Identifier (URI). A telephone number assigned for IP Relay use will have an associated URI containing a domain name and user name, and a telephone number assigned for VRS use will have an associated URI containing an IP address and device-specific protocol information. The Commission further determined that building, maintaining, and operating the central numbering directory would best be accomplished by a neutral third party administrator under contract with the Commission and compensated through the Interstate TRS Fund (Fund). The Commission concluded that, for security reasons, only Internet-based TRS providers should be authorized to query the central numbering directory for the purpose of obtaining information from the numbering directory to complete calls.

7. Second, to ensure that Internet-based TRS users can make emergency calls that will be directly and automatically routed to the appropriate PSAP, the Commission required that Internet-based TRS providers, prior to the initiation of service, obtain consumer location information from each of their registered users. Further, the Commission required each Internet-based TRS provider to transmit all 911 calls to the PSAP, designated statewide default answering point, or appropriate local emergency authority that services the caller's Registered Location and that has been designated for telecommunications carriers under the Commission's part 64 rules. Each such 911 call must carry a call back number, the name of the relay provider, the communications assistant's (CA's) identification number, and the caller's Registered Location. The Commission further instructed that such calls must be routed through the use of ANI (or pseudo-ANI, if necessary) via the dedicated Wireline E911 Network, and the Registered Location must be available from or through the ALI Database. The Commission made clear that Internet-based TRS providers may not fulfill their 911 obligations by routing 911 calls to ten-digit NPA-NXX numbers (so called “administrative numbers”) of PSAPs where a selective router is utilized.

8. In the Further NPRM, the Commission sought comment on fourteen different issues relating to the assignment and administration of ten-digit telephone numbers for Internet-based TRS. Specifically, the Commission sought comment on: (1) Certain peripheral issues concerning the proper handling of 911 calls placed via Internet-based TRS; (2) registration period; (3) the eligibility of Internet-based TRS users to receive multiple telephone numbers; (4) the use of toll-free numbers; (5) what steps the Commission should take, if any, to facilitate implementation of standards-based signaling between service providers; (6) the assignment of a single telephone number to multiple services; (7) multi-line telephone systems; (8) eligibility to obtain Internet-based TRS telephone numbers; (9) the regulatory treatment of IP CTS; (10) additional security measures designed to ensure the integrity of the TRS system and Internet-based TRS equipment and networks; (11) verification of registration; (12) application of the anti-slamming rules to protect relay consumers against unauthorized default provider changes; (13) the extent to which the CPNI rules should apply to Internet-based TRS providers; and (14) whether, and to what extent, in connection with the compensation of Internet-based TRS providers for their reasonable actual costs of complying with the Internet-based TRS Order, the costs of acquiring numbers, and porting fees, should be passed on to Internet-based TRS users. The Commission received numerous comments on these issues.

9. On August 15, 2008, CSDVRS, GoAmerica, Viable and Snap filed a petition seeking reconsideration and clarification of the Commission's Internet-based TRS Order with respect to the obligations of default and former default providers to route consumer information. The petitioners request that the Commission revise its rule to allow the consumer either (1) to continue to use the devices once they have ported their number with the understanding that their routing information will continue to be provisioned by the original provider that supplied the device or (2) to acquire a new device from the new default provider. Sorenson filed an opposition to the Petition for Reconsideration and the TDI Coalition and Hamilton filed comments in response to the Petition for Reconsideration. CSDVRS and GoAmerica filed replies to Sorenson's opposition to the Petition for Reconsideration.

10. On August 15, 2008, CSDVRS also filed a petition seeking clarification that the Commission's rules require VRS providers to provide fully interoperable relay service. CSDVRS requests that the Commission clarify that every VRS provider has an obligation to ensure that it is as easy for a VRS user to place outbound calls via competing providers as it is to place outbound calls via the user's default provider. Sorenson filed an opposition to CSDVRS's Petition for Clarification and CSDVRS and GoAmerica filed replies to Sorenson's opposition.

11. On August 18, 2008, Sorenson filed a petition for reconsideration and clarification seeking the Commission to: (1) Allow the continued use of “proxy” numbers; (2) recognize that 911 calls must be routed over administrative lines in certain circumstances; and (3) clarify the date by which E911 must be fully implemented. The TDI Coalition filed an opposition to Sorenson's Petition for Reconsideration and the Joint Responders filed a partial opposition. AT&T filed reply comments. On September 30, 2008, Sorenson filed a petition for limited waiver of the prohibition on the use of “proxy” and “alias” numbers. CSDVRS, GoAmerica, Hamilton Relay, and TDI Coalition filed oppositions to Sorenson's petition for limited waiver. Sorenson filed a reply to the oppositions.

12. On October 24, 2008, NENA and APCO filed a request for clarification that the Commission's rule governing the non-disclosure by a CA of the content of a relayed conversation does not prohibit a VRS CA, when relaying an emergency call, from disclosing background visual and auditory information to emergency personnel. Sorenson and the TDI Coalition filed ex partes in support of this request.

A. 911 Issues

13. 911 Calls and the Call Completion Rule. The Commission's rules require Internet-based TRS providers to use a system that ensures that the provider will answer an incoming emergency call before other non-emergency calls, i.e., that the provider will prioritize emergency calls and move them to the top of the queue. In the Further NPRM, the Commission sought comment on whether, as an additional step to ensure the prompt handling of emergency calls, the call completion rule should be modified so that if an Internet-based TRS provider's CA is handling a non-emergency relay call and identifies an incoming 911 call that would be placed in queue, the CA may terminate the existing call to answer the 911 call immediately. As the Commission noted, under the current call completion rule, a CA may not terminate an ongoing call for any reason, including to answer a 911 call that would otherwise wait in a queue for the next available CA.

14. Based on the record, the Commission concludes that it should not modify the call completion rule to allow CAs to terminate an existing call in order to answer a 911 call. As several providers note, allowing CAs to terminate a non-emergency call is inconsistent with the principle of functional equivalency and the role of the CA as a dial tone. Moreover, the assumption that the CA would be terminating a call to answer a call that is more urgent may, in fact, not always be true. As Sprint Nextel notes, a call between a patient and her doctor might be terminated to answer an emergency call that presents less life-threatening issues. Further, several providers note that there is little evidence in the record to demonstrate that 911 calls made to Internet-based TRS providers have been substantially delayed, or that there is otherwise any compelling reason to modify the current call completion rule, particularly in view of the requirement that providers prioritize incoming 911 calls. For these reasons, the Commission declines to modify our rules to permit CAs to terminate existing calls to answer 911 calls. The Commission will revisit this issue in the future, however, if it receives information that, notwithstanding the emergency call prioritization rule, emergency callers have had to wait more than a minimal amount of time to reach a CA.

15. Prioritization of “Call Backs” If 911 Call is Disconnected. As noted above, in the Interim Emergency Call Handling Order, the Commission required providers to implement a system to ensure that incoming emergency calls are answered before other non-emergency calls so that an emergency caller does not have to wait in a queue for the next available CA. The interim rules also require the CA to give the emergency personnel, at the beginning of the call, the CA's callback number so that the emergency personnel can call back the CA if the call gets disconnected. The latter rule was superseded by the Internet-based TRS Order, which requires, effective December 31, 2008, that the CA give the emergency personnel the caller's ten-digit number, rather than the CA's call back number.

16. As the Commission stated in the recent VRS Numbering Waiver Order, the requirement that VRS providers implement a system to ensure that all incoming emergency calls are prioritized and do not have to wait in a queue also applies to callbacks from the emergency services personnel. Therefore, the Commission again reminds providers that they must ensure not only that incoming 911 calls are prioritized, but also that callbacks from the emergency services personnel to the consumer via the consumer's ten-digit number are answered by the provider before non-emergency calls.

17. Relay of Visual and Auditory Information to Emergency Personnel. Recognizing the Commission's commitment to adapt the Commission's rules to “ensure that people with disabilities who desire to use interconnected” IP-enabled services “obtain access to E911 services,” NENA and APCO request clarification that VRS CAs may, “when reasonably necessary, * * * provide visual information to a 9-1-1 telecommunicator that will protect the life of the caller and/or others, including first responders.” Authorizing such actions would “allow interpreters to step in and describe a situation accurately when the deaf user is unable to do so.” NENA and APCO further ask that the Commission clarify that VRS CAs may retain records of what they see and hear during an emergency call.

18. The Commission agrees in part and so clarifies. The Commission's rules (and the statute) generally prohibit a CA from “intentionally altering a relayed conversation” and from “keeping records of the content of any conversation beyond the duration of a call.” The Commission reads these provisions to preserve the content and privacy of the “relayed conversation,” but background visual and auditory information regarding an emergency that a CA may see and hear during a VRS call is not part of the “conversation.” Thus relaying background visual and auditory information to emergency personnel regarding an ongoing emergency does not contravene the statutory and regulatory protections for “relayed conversations.” Bolstering the Commission's interpretation is the Commission's recognition that just as emergency personnel garner important information from the sounds they hear during an emergency call with a hearing user (the crackling of a fire, the explosion of a gunshot), emergency personnel may get functionally equivalent information from the sights a CA sees during an emergency call with a VRS user (the flames of a fire, the brandishing of a gun). Allowing a VRS CA to relay visual and auditory information regarding an ongoing emergency to emergency personnel should help protect the safety and lives of VRS users and emergency responders. Thus the Commission clarifies that, consistent with the Commission's rules and the Act, a CA may relay background visual and auditory information regarding an ongoing emergency to assist emergency personnel in responding to an emergency VRS call. Moreover, because of the importance of quick action in the face of an ongoing emergency, the Commission clarifies that VRS CAs may retain a record of background visual and auditory information regarding an emergency for a reasonable time after an emergency call has terminated for the sole purpose of providing that information to emergency personnel should they call back.

B. Registration Period

19. In the Internet-based TRS Order, the Commission required that every Internet-based TRS provider offer its users the capability to register with that provider as the “default provider” and provide or port for that user a NANP telephone number. In addition, the Commission required Internet-based TRS providers to obtain registration information from all new users and assign all new users a NANP telephone number. The Commission explained that requiring users to register and assigning them NANP telephone numbers has benefits that include facilitating the effective provision of 911 service. In the Further NPRM, the Commission sought comment on the length of the registration period during which Internet-based TRS providers will register existing users, obtain their initial Registered Location, and provide the users new ten-digit NANP telephone numbers. The Commission also sought comment on whether there should be a cut-off date for users' registration with a default provider.

20. The Commission received a number of comments on this issue. AT&T proposes a three-month registration period and a three-month permissive calling period. During these periods, AT&T recommends education and outreach efforts. AT&T recommends that at the end of the permissive calling period, Internet-based TRS providers cease completing the non-emergency calls of unregistered Internet-based TRS users. The TDI Coalition recommends a six-month period conditioned on the Commission undertaking periodic review of actual registrations resulting from outreach and education efforts of the Commission and Internet-based TRS providers. CSDVRS recommends a 12-month registration period with the requirement that each VRS provider submit its number of new registrations on a quarterly basis to the Commission. CSDVRS also recommends procedures to be put in place after the cut-off date in which callers will be routed to customer service to become registered.

21. Several commenters recommend no cut-off of calling capabilities for unregistered users. NENA claims that education of Internet-based TRS users is preferable to cutting off service. Sorenson also does not recommend a cut-off period. Rather, Sorenson recommends promoting registration and education about the benefits of signing up with a default provider, but not refusing service to individuals who choose not to register. GoAmerica recommends that registration should be required to obtain a ten-digit number, but not required to use Internet-based TRS service, i.e., users should not be forced to register if they do not want to. GoAmerica further comments that mandatory registration is “contrary to functional equivalence” as hearing people do not have to register.

22. As the Commission stated in the Internet-based TRS Order, registration is essential to the assignment and use of NANP telephone numbers and has important public safety benefits. The Commission disagrees with GoAmerica that registration is contrary to functional equivalency. For traditional voice communications services, users “register” when they sign up for service by providing their name and address, and in the case of interconnected VoIP, registration is mandatory. The Commission repeats that Internet-based TRS providers must register eligible new users before providing them service. For example, any newly-provisioned user (i.e., a user being sent a new device, or application software download) must be given a NANP telephone number. The Commission also adopts AT&T's recommendation to provide, for eligible existing users, a three-month registration period followed by a three-month permissive calling period; during this six-month period Internet-based TRS providers will engage in consumer education and outreach efforts.

23. As noted by AT&T, the permissive calling period is comparable to the permissive calling period that is used in area code relief situations to provide flexibility as consumers adapt to the new numbering scheme. Accordingly, Internet-based TRS users may place and receive calls via the method used before December 31, 2008 during the three-month registration and three-month permissive calling periods. Once an Internet-based TRS user obtains a NANP telephone number, the user may still be reached by his or her “proxy” or “alias” number, but the Internet-based TRS provider will provide a message notifying the caller of the user's new NANP telephone number and advising the caller that after June 30, 2009, the user may only be reached by the NANP telephone number.

24. Providers should have no trouble getting most of their users with hearing and speech disabilities registered by the three-month target deadline, but the permissive calling period provides flexibility for a transition period in case, for some reason, some users need more time to register. Moreover, during the permissive calling period, Internet-based TRS providers can continue to engage in targeted education and outreach. As discussed in our Internet-based TRS Order, registration is necessary for Internet-based TRS providers to associate an Internet-based TRS user's telephone number with his or her IP address to allow for the routing and completion of calls. Moreover, mandatory registration is critical to the effective handling of 911 calls. Specifically, registration allows Internet-based TRS providers to provide first responders with location information for emergency calls placed over Internet-based TRS. The TDI Coalition agrees that registration is necessary for users to benefit from effective 911 call handling. In addition, mandatory registration will facilitate the implementation of appropriate network security measures by reducing access to the Internet-based TRS providers' databases and therefore, limit the exposure of the databases to abuses, such as hacking. In order to ensure that Internet-based TRS users can realize the benefits of the numbering system adopted in the Internet-based TRS Order, registration must be mandatory with a definitive cut-off date by which Internet-based TRS providers may not complete the non-emergency calls of unregistered users.

25. The Commission establishes the following registration schedule: The registration period will begin on December 31, 2008, the implementation date of the new ten-digit numbering system. The three-month registration period will end on March 31, 2009, and the permissive calling period will end on June 30, 2009. At the end of the permissive calling period, existing Internet-based TRS users who have not registered with a default provider will be treated like new Internet-based TRS users. Internet-based TRS providers must register these eligible users before they may make non-emergency calls, in accordance with the E911 goals set forth in the Internet-based TRS Order. The Commission encourages all Internet-based TRS providers to register their eligible users during the three-month registration period, but acknowledge that there may be a need for additional time and therefore, allow a three-month permissive calling period. The Commission also encourages Internet-based TRS providers to keep it apprised of the status of customer registrations during the registration period through ex parte filings in these dockets.

26. Some providers have stated that they are unable to distinguish a new user from an “existing” user who is dialing around the default provider with which he or she is registered. The Commission notes that, as a new user is “an individual that has not previously utilized VRS or IP Relay,” someone to whom the provider has already issued a proxy number, for example, or someone who has been issued a device that is in contact with a provider's server, would not fall into the category of a “new” user. In support of mandatory registration for new users as of December 31, 2008, the Commission permits providers to request a user's ten-digit NANP number, which can be used to verify whether the user is registered with another provider. Such verification can be made with a simple query to the Numbering Directory using the ten-digit number. This interim solution will be available to providers as of December 31, 2008. However, the Commission may consider enhancing this method with the capability to do a reverse directory lookup of identifying information in the incoming call against the URIs of registered users, or the Commission may adopt some other solution if operational experience and the record in this proceeding indicate that another method would be preferable. In any event, if a provider is unable to discern whether someone attempting to use its service is an existing user, then it should treat such user as a new user.

27. The TDI Coalition recommends that once users register with a default provider, they should be able to place relay calls immediately, at least on a temporary basis, through, for example, the assignment of a temporary “guest” or application number/identification system. Similar to the TDI Coalition, Sorenson claims that providers must be prepared to assign a user a NANP number within an acceptable period of time (e.g., three days, but no longer than a week). The Commission believes that under our registration and permissive calling plan, there should be no delay problems for existing Internet-based TRS users, as they may continue to place calls without a ten-digit, geographically appropriate number until the end of the permissive calling period. For new users, the Commission agrees with the TDI Coalition and concludes that to the extent technically feasible, Internet-based TRS providers must allow newly registered users to place calls immediately.

28. Sorenson Petition for Reconsideration and Clarification. Sorenson raises two issues in its Petition for Reconsideration and Clarification related to registration and routing of 911 calls. First, Sorenson requests that the Commission clarify that its new rules applicable to E911 Service, which are effective December 31, 2008, only apply to 911 calls of registered users. Because the new rules require providers to make available certain information that they can obtain only from registered users, such as Registered Location information, the Commission hereby amends the new rules to apply to 911 calls placed by registered users. Sorenson also requests permission to route 911 calls to the administrative lines of PSAPs in certain cases, such as when a user's Registered Location is in a geographic area not served by a Wireline E911 Network, or when a non-default provider is handling a 911 call but does not have access to the 911 caller's Registered Location or other relevant information. The Commission recognizes that in certain circumstances such as these, the new rules may not be fully applicable. Therefore, the Commission amends our emergency calling rules to specify that the new rules only apply to 911 calls placed by users whose Registered Location is in a geographic area served by a Wireline E911 Network and is available to the provider handling the call.

29. Sorenson Petition for Limited Waiver. Finally, Sorenson requests that the Commission grant it a one-year waiver of the Commission's prohibition on the use of “proxy” or “alias” numbers after December 31, 2008. Sorenson claims a waiver is necessary to avoid user disruption associated with the transition to NANP numbers by allowing Sorenson users to continue receiving calls dialed using proxy numbers. There is strong opposition in the record to Sorenson's petition. Contrary to Sorenson's position, the TDI Coalition claims that continued use of proxy numbers will actually create more confusion for users. Specifically, the TDI Coalition argues that many proxy numbers are duplicates of NANP numbers and therefore, using proxy numbers once NANP numbers are assigned could cause confusion for users and interoperability problems for Internet-based TRS providers. Parties also highlight that callers using proxy numbers will not have their location information automatically transmitted to the appropriate PSAP or receive emergency callbacks through alternative VRS providers in the case of a disconnect. Moreover, commenters argue that granting Sorenson's petition would allow Sorenson to continue to maintain its closed directory system to the detriment of other competing VRS providers. There is consensus among the commenters that any customer confusion that may arise by the termination of “proxy” and “alias” numbers with the assignment of ten-digit NANP numbers can be adequately addressed by a message provided by Sorenson that notifies that caller of the new NANP number of the called party. As stated above, an Internet-based TRS user may be reached by his or her “proxy” or “alias” number until the end of the permissive calling period. Additionally, the Commission concluded that Internet-based TRS providers must provide a message notifying callers that after June 30, 2009, the user may only be reached by his or her NANP telephone number. Accordingly, consistent with the record in this proceeding, the Commission denies Sorenson's petition for limited waiver.

30. Sua Sponte Clarification and Reconsideration. The Commission also clarifies, on its own motion, that all users of Internet-based TRS must be assigned ten-digit, geographically appropriate numbers, meaning numbers within their local rate centers. In our June 24, 2008 Internet-based TRS Order, the Commission noted that in “unusual and limited circumstances,” Internet-based TRS providers could encounter difficulty obtaining truly local telephone numbers for their users. The Commission suggested that in such circumstances, Internet-based TRS providers could “temporarily employ suitable workarounds,” such as assigning a user a telephone number reasonably close to the user's rate center or using remote call forwarding, but only until a geographically appropriate number became available. First, the Commission clarifies that under no circumstances should a toll-free number be assigned to a user as such a workaround. As the Commission states below, toll-free numbers must always route to a user's ten-digit, geographically appropriate number. The Commission clarifies this because it is concerned that the assignment of a toll-free number as a user's primary identifier could degrade the provision of E911 service to that user—a concern made more acute by the short time that providers, users, and the database administrator have to implement the new numbering system. Second, the Commission reconsiders its prior suggestion that Internet-based TRS providers can use workarounds in instances where they cannot obtain geographically appropriate numbers, such as assigning a non-local but “close” telephone number or using remote call forwarding. The Commission anticipates that the instances in which geographically appropriate numbers will be unavailable from wholesale carriers will be rare, but in those rare instances the Commission now requires Internet-based TRS providers to bring the situation to its attention, and the Commission will work with the carriers in that area and other entities to resolve it so that all users of Internet-based TRS service will have truly local geographically appropriate ten-digit numbers. To be clear, Internet-based TRS providers must assign to each user a locally rated, ten-digit, geographically appropriate number. The Commission delegates to the Wireline Competition Bureau the authority necessary to work with the Internet-based TRS providers, the carriers, and the numbering administrators to resolve any such situations.

C. Use of Toll Free Numbers for Internet-Based TRS

31. In the Further NPRM, the Commission sought comment on the use of toll free numbers for Internet-based TRS, including any impact the use of such numbers may have on the provision of 911 service. AT&T claims that Internet-based TRS users should be discouraged from using toll free numbers, and those users who elect to retain their toll free numbers should be required to pay for their use. AT&T also advocates transitioning away from toll free numbers due to concerns about the ability of 911 databases to effectively route 911 calls when associated with a toll free number because, by design, toll free numbers operate as inbound numbers only. GoAmerica claims that toll free numbers go beyond functional equivalency, and recommends that all Internet-based TRS users who are assigned toll free numbers be assigned geographically appropriate numbers. GoAmerica argues that, should an Internet-based TRS user want a toll free number, the user should be able to get one, and, like AT&T, GoAmerica recognizes that toll free numbers do not work with E911 systems.

32. The TDI Coalition encourages the use of geographically appropriate numbers and argues that if a provider offers toll free numbers, “such offering must be no more than an optional alternative to geographic numbers.” The TDI Coalition also argues that mechanisms can be put in place to facilitate the provisioning of 911 services through the use of pseudo-ANI, similar to VoIP 911. Sorenson also believes that Internet-based TRS users should be able to obtain toll free numbers, should not have to surrender their toll free numbers—i.e., they should be able to have a geographically appropriate number and a toll free number, provided both numbers are assigned by the same provider. Sorenson argues that the providers should be responsible for the costs of the users' numbers and should be permitted to submit costs to the Interstate TRS Fund in connection with only one number (toll free or geographic) per device.

33. CSDVRS recommends that VRS providers be allowed, but not required, to issue toll free numbers and that users should be able to obtain toll free numbers from any provider, not just the default provider. With respect to 911 service, CSDVRS states that since toll free numbers do not have access to 911 services, devices assigned only a toll free number will need to carry clear disclaimers about their 911 limitations.

34. The Commission concludes, for the reasons discussed above in connection with registration, that Internet-based TRS users should transition away from the exclusive use of toll free numbers to ten-digit, geographically appropriate numbers, in accordance with our numbering system. Important to this finding is that ten-digit NANP numbers will ensure that emergency calls will be routed directly and automatically to the appropriate PSAP. Accordingly, similar to the Commission's registration plan, Internet-based TRS users are allowed a three-month period to transition to ten-digit, geographically appropriate numbers, with an additional three-month permissive calling period for unregistered users. At the end of the permissive calling period, the Commission requires Internet-based TRS providers to have assigned ten-digit, geographically appropriate numbers to all current holders of toll free numbers who wish to continue using those toll free numbers. An Internet-based TRS user may retain a current toll free number or obtain a new toll free number so long as that toll free number is directed to the ten-digit, geographically appropriate number. As discussed below, voice telephone users are responsible for the costs of obtaining and using their individual toll free numbers and therefore, functional equivalency does not require that the use of toll free numbers in connection with Internet-based TRS should be compensable from the Interstate TRS Fund.

D. Eligibility Requirements and Verification Procedures

35. In the Further NPRM, the Commission sought comment on who should be eligible to obtain telephone numbers. Specifically, the Commission sought comment on the need for eligibility requirements or verification procedures when telephone numbers are assigned; e.g., must the recipient have a hearing or speech disability and therefore need to use TRS to access the telephone system and, if so, should the recipient be required to verify that fact, or can a number be assigned to a voice telephone user who may desire to communicate directly (video-to-video) with a TRS user? The Commission also sought comment on related issues, including the effect of particular proposals on the Interstate TRS Fund, potential number exhaustion concerns, possible other means by which the Commission or providers can facilitate the provision of “point-to-point” Internet-based calls, and the scope of section 225 with regard to these questions.

36. Eligibility To Obtain Ten-Digit Numbers. The Commission concludes that, at this time, only individuals with a hearing or speech disability will be eligible to obtain ten-digit telephone numbers under the numbering system adopted in the Internet-based TRS Order. Although several commenters request that the Commission also allow hearing persons to obtain ten-digit numbers from Internet-based TRS providers for the purpose of enabling point-to-point video communications (i.e., non-relay calls) between a hearing person and an individual with a hearing or speech disability, the Commission declines to do so at this time.

37. While the Commission recognizes the potential benefits of facilitating direct communication between TRS users and voice telephone users, the Commission nevertheless limits the assignment of ten-digit numbers to persons with hearing and speech disabilities at this time. First, the Commission is cognizant of the limitations imposed by section 225, which instructs the Commission to prescribe regulations governing the provision of “telecommunications relay services,” and specifically authorizes the recovery of costs “caused by * * * telecommunications relay services.” Direct point-to-point calling is not a “telecommunications relay service” under section 225. In addition, the assignment of telephone numbers to voice telephone users for the purpose of point-to-point calls raises cost recovery issues. The Commission must ensure that costs specific to facilitating such calls are excluded from those costs for which providers may seek compensation from the Fund (and also are not included in those costs that determine the compensation rate). For example, costs associated with assigning a telephone number to a hearing person to facilitate direct calls, including costs related to obtaining the number, record-keeping, and technical support activities, would not be compensable from the Fund. The Commission therefore finds that further evaluation is needed of the specific costs that would be associated with both assigning numbers to voice telephone users for the purpose of making point-to-point calls, and with the processing of such calls, in order to establish safeguards to ensure that such costs would not be borne by the Fund. Finally, the Commission's paramount concern at this time is to ensure that it facilitates calls to Internet-based TRS users with hearing or speech disabilities and provide these users with automatic 911 access consistent with the functional equivalency mandate. For these reasons, the Commission concludes that only individuals with a hearing or speech disability will be eligible to obtain ten-digit telephone numbers under the numbering system adopted by the Commission at this time.

38. Eligibility and Verification Procedures. The Commission also sought comment on what safeguards should apply, such as eligibility requirements and/or verifications, when a user registers with a default provider and is assigned a ten-digit telephone number. In addition, the Commission sought comment on how providers might verify the accuracy of initial registration information in order to curb IP Relay fraud. Commenters generally support registration verification as a means of ensuring that registration information provided by users is accurate and preventing the improper use of Internet-based TRS, particularly IP Relay. At the same time, commenters emphasize that registration verification procedures should not unduly burden Internet-based TRS users in the process of obtaining ten-digit numbers.

39. To verify the accuracy of initial registration information and to help ensure that VRS and IP Relay are used only for their intended purpose, Internet-based TRS providers must institute procedures to verify the accuracy of registration information, including the consumer's name and mailing address, before issuing the consumer a ten-digit telephone number. In addition, to ensure that registered users are aware of the eligibility limitations set forth above, the verification procedures must include a self certification component requiring consumers to verify that they have a medically recognized hearing or speech disability necessitating their use of TRS.

40. In taking these actions, the Commission does not mandate the use of any particular verification procedures. Instead, the Commission requires only that Internet-based TRS providers implement a reasonable means of verifying registration and eligibility information that is not unduly burdensome. Such means may include, for example: (1) Sending a postcard to the mailing address provided by the consumer, for return to the default Internet-based TRS provider; (2) in-person or on camera ID checks during registration; or (3) other verification processes similar to those performed by voice telephone providers and other institutions (such as banks and credit card companies). Such registration should be accompanied by consumer education and outreach efforts designed to inform Internet-based TRS consumers of the importance of providing accurate registration information. The Commission expects that these measures will reduce the misuse of Internet-based TRS by those who may take advantage of the anonymity currently afforded users, particularly IP Relay users, without unduly burdening legitimate Internet-based TRS consumers seeking to obtain ten-digit telephone numbers. The consumer education and outreach materials also should make clear that: (1) The consumer may obtain a telephone number from, and register with, his or her provider of choice (notwithstanding any prior relationship the consumer may have had with another provider); (2) the consumer may change default providers at any time and, in doing so, retain his or her telephone number by porting the number to the new default provider; (3) the consumer may make calls through, and receive calls from, any provider (and the consumer is not limited to making or receiving calls through his or her default provider); and (4) the provider cannot condition the ongoing use or possession of equipment, or the receipt of different or upgraded equipment, on the consumer continuing to use the provider as its default provider.

41. As stated above, these requirements will apply to those users who have registered and obtained a ten-digit number beginning December 31, 2008, except for the information collection requirements contained in section 64.605 that have not been approved by OMB and, as such, the Commission will publish a document in the Federal Register announcing the effective date for the information collection requirements contained in this section. Such requirements subject to OMB approval include the outreach and education obligations set forth in the above paragraph, as well as the verification and self-certification requirements. Because these requirements are subject to OMB approval, the Commission does not require providers to implement these provisions until they have received such approval and are in effect. Once the verification and self-certification requirements become effective, however, providers will be required to verify the accuracy of any registration information that was obtained prior to the effective date, as well as obtain self-certifications from users who acquired ten-digit numbers, in compliance with these requirements.

E. Assignment of Telephone Numbers

42. In the Further NPRM, the Commission sought comment on the Consumer Groups' claim that functional equivalency requires that deaf and hard-of-hearing users have one ten-digit, NANP number for multiple devices. The Commission also sought comment on whether, if such a system were in place, the cost of the additional functionalities should be passed on to the Internet-based TRS user. In their comments in response to the Further NPRM, the Consumer Groups clarified their position and stated that functional equivalency does not require that a user must have the option of using the same telephone number with multiple types of TRS services, but rather, that some type of call forwarding would be sufficient. With respect to the cost of the call forwarding service, the Consumer Groups urge the Commission to consider their opinion that the functionality of call forwarding is commonly included in services provided to telephone users at no charge and that the additional administrative costs to assess and collect such a fee, which they believe will be nominal, will exceed the cost of providing the functionality.

43. AT&T believes that the Commission should not mandate a single telephone number for multiple services. AT&T believes that Internet-based TRS providers can implement call forwarding and other services to offer a one-number solution to users who have registered with that provider as their default provider. CSDVRS recommends that providers be allowed, but not required, to offer such a functionality as it is an enhanced functionality rather than a functionally equivalent feature. GoAmerica shares the same view as CSDVRS, but argues that it may be problematic to have the same number assigned for different services that have different technologies, platforms and endpoints. Sorenson recommends deferring the issue to focus resources on the immediate challenges of implementing the new numbering system. Similarly, NeuStar argues that, “[a]s technology evolves, it may be possible for a single [telephone number] to be associated with multiple services in an IP environment, but that time is not here yet.”

44. Assignment of numbers for multiple types of service. The Commission agrees that functional equivalency does not require that an Internet-based TRS user be assigned a single ten-digit, NANP number for multiple types of services. Given the short timeframe to implement our numbering system and the importance of public safety, the Commission determines that a ten-digit, geographically appropriate number will be associated with the URI of one user, for one type of service, e.g., IP Relay or VRS. Nothing in this Order is intended to restrict an Internet-based TRS provider from offering a feature that would automatically forward an incoming call for the user at one service (e.g., VRS) to the user at another service (e.g., IP Relay) in those cases where the user has obtained numbers for both services from the same provider if it does not result in additional costs to the Fund. However, a provider that is not a default provider may not be able to replicate the same feature based on the information available in the Numbering Directory. As the Commission garners experience with the numbering system, the Commission will be better able to analyze possible solutions to allow a single number to be associated with multiple types of services consistent with the emergency handling and interoperability rules.

45. Assignment of telephone numbers for multiple URIs for the same type of service. The Commission does not place limits at this time on the quantity of telephone numbers that an Internet-based TRS user may obtain from Internet-based TRS providers. For example, a VRS user may obtain different numbers for VRS devices at different locations such as home and office. This meets basic functional equivalency and provides more reliable E911 location information. Nothing in this Order is intended to restrict an Internet-based TRS provider that has provisioned a user with multiple numbers for the same service from offering call-forwarding-type features that automatically forward an incoming call for the user at a URI associated with one telephone number to the user at a URI associated with another telephone number if it does not result in additional costs to the Fund. The Commission notes, however, that an Internet-based TRS provider that is not the default provider of these numbers may not be able to replicate the same feature based on the information in the Numbering Directory. Consistent with the Commission's rules, each provider of Internet-based TRS is required to obtain from each registered Internet-based TRS user the physical location at which the service will be first utilized for each number and to provide the user one or more methods for updating the physical location for each number.

46. Assignment of telephone numbers for multiple URIs at the same location. Because the Commission does not place limits at this time on the quantity of telephone numbers that an Internet-based TRS user may obtain from Internet-based TRS providers, a user may also obtain numbers for different devices on the same premises, such as multiple VRS devices in the home. Although the central Numbering Directory does not permit a single telephone number to be shared by multiple devices at the same location, nothing in this Order restricts an Internet-based TRS provider or an independent equipment supplier from developing and implementing a solution that provides a “multiple extensions” feature if it does not result in additional costs to the Fund. As the Commission garners experience with our numbering system, the Commission will be better able to analyze possible solutions to allow a single number to be associated with multiple devices consistent with emergency handling and interoperability rules.

47. Assignment of telephone numbers for a single URI. Given the short timeframe to implement our numbering system and the importance of public safety, the Commission finds that if multiple ten-digit, geographically appropriate telephone numbers are associated with a single URI, they must all be provided by a single Internet-based TRS provider. Thus, only one Internet-based TRS provider is responsible for managing the Registered Location information associated with that URI. This requirement will reduce the likelihood of conflicting Registered Location information for the same URI.

48. Recapturing unused numbers. Because the Commission anticipates that providers will not encourage consumers to obtain more telephone numbers than they actually intend to use, the Commission declines to put into effect a means to recapture unused numbers at this time, but will monitor the situation and reserve the right to do so at a later date.

F. Numbering Costs

49. In the Internet-based TRS Order, the Commission concluded that Internet-based TRS providers may seek compensation from the Fund for their reasonable actual costs of complying with the requirements adopted in that order. The Order further concluded that costs recoverable from the Fund may include those directly related to: (1) Ensuring that database information is properly and timely updated and maintained; (2) processing and transmitting calls made to ten-digit numbers assigned pursuant to the Internet-based TRS Order; (3) routing emergency calls to an appropriate PSAP; (4) other implementation tasks directly related to facilitating ten-digit numbering and emergency call handling; and (5) consumer outreach and education related to the requirements and services adopted in the Internet-based TRS Order.

50. At the same time, the Commission stated that those numbering costs compensable from the Fund did not include “those costs directly related to consumers' acquiring a ten-digit number or to the costs associated with number portability.” Noting that voice telephone users generally bear these costs, the Commission sought comment on “whether Internet-based TRS users acquiring ten-digit numbers should also bear these costs. In addition, the Commission sought comment on whether other specific costs associated with numbering should, consistent with costs paid by voice telephone users, be passed on to consumers, “including, for example, E911 charges.” As explained more fully below, the Commission concludes that certain costs, which typically are borne by consumers of voice communication services, are not compensable from the Fund and, at the election of each provider and subject to Commission approval (as explained below), may be passed on to Internet-based TRS users who are registered with that provider. These costs include: (1) Costs associated with an Internet-based TRS consumer's acquisition of a ten-digit geographic telephone number, (2) costs associated with an Internet-based TRS consumer's acquisition and usage of a toll free telephone number; and (3) any E911 charges that may be imposed on Interstate TRS providers under a state or local E911 funding mechanism. The Commission also addresses below number portability costs.

51. Costs Relating to the Acquisition of a Ten-Digit Geographic Number. Section 225 states that the Commission's regulations shall “require that users of [TRS] pay rates no greater than the rates paid for functionally equivalent voice communication services with respect to such factors as the duration of the call, the time of day, and the distance from point of origination to point of termination.” As noted in the Further Notice, Congress therefore contemplated that TRS consumers would pay certain costs associated with making a call, just not the additional costs that are attributable to the use of a relay service to facilitate the call. Because number acquisition costs are not attributable to the use of relay to facilitate a call, and because the record reflects that these costs generally are borne by users of voice communication services, the Commission finds, consistent with section 225 and the functional equivalency mandate, that number acquisition costs are not compensable from the Fund. Therefore, a provider that assigns a telephone number to a consumer may pass the costs on to that consumer. However, to ensure that only these customer-specific, actually incurred costs are passed on, the Commission requires that any Internet-based TRS provider wishing to pass on numbering-related costs to its users first obtain Commission approval. The Commission delegates to the Consumer and Governmental Affairs Bureau the authority to rule on such requests.

52. Commenters' arguments that costs of obtaining ten-digit telephone numbers should not be borne by consumers are insufficient to justify treating Internet-based TRS users differently than users of voice communication services with respect to passing through number assignment costs to end users. First, some commenters contend that number assignment costs are “generally small” and, as such, do not justify the administrative expense that would be involved in recovering them from consumers. The Commission disagrees. Internet-based TRS providers reasonably may take into consideration the administrative cost of billing consumers in determining whether to pass certain numbering costs on to consumers and, if so, how much to charge. The fact that providers may incur administrative expenses, however, does not justify treating Internet-based TRS users differently from users of voice communication services.

53. Second, the Commission disagrees with the contention that it should allow costs associated with acquiring numbers to be reimbursed by the Fund to the extent that anticipated “cost savings” resulting from the Internet-based TRS Order (associated with a possible future reduction in IP relay fraud) can be expected to “outweigh” the cost of acquiring numbers. Potential “cost savings” to the Fund resulting from a reduction in IP Relay fraud similarly does not provide a basis for treating Internet-based TRS users differently in this context, given that the approach the Commission adopts here is consistent with the language and functional equivalency objective of section 225.

54. Finally, GoAmerica asserts that it is “discriminatory” to charge deaf and hard of hearing persons for telephone numbers because Internet-based TRS users already “pay more for the ability to communicate than hearing persons.” In particular, GoAmerica suggests that Internet-based TRS users must incur the cost of high speed Internet access, in addition to the cost of a regular telephone line, in order to have both TTY access and access to VRS. The record, however, does not support this claim. The record reflects that hearing consumers who use interconnected VoIP services may pay as much, if not more, than Internet-based TRS users for service costs that may include number assignment charges, other associated fees, and broadband Internet access. The Commission therefore finds that Internet-based TRS consumers' costs to obtain ten-digit telephone numbers are not compensable from the Interstate TRS Fund and, at the election of each provider and subject to Commission approval (as explained above), may be passed on to the consumer.

55. Costs Relating to the Acquisition and Use of a Toll Free Number. The Commission also sought comment on allowing the continued use of toll free numbers by Internet-based TRS users. In addition, the Commission sought comment on whether Internet-based TRS users should be subject to a fee for the use of toll free numbers, as are voice telephone users.

56. Although the Commission permits the continued use of toll free numbers by Internet-based TRS users to the extent provided in this Order, the Commission agrees with commenters who assert that the costs associated with obtaining and using a toll free number should not be compensable from the Fund. As AT&T asserts, for example, users who elect to retain their toll free number “should be required to pay for the use of that number” and doing so “would make Internet-based TRS more functionally equivalent.” The Commission therefore finds that Internet-based TRS providers may not seek compensation from the Fund for the cost of assigning a toll free number that has been assigned to an Internet-based TRS consumer after December 31, 2008. Internet-based TRS providers similarly may not seek compensation from the Fund for usage charges associated with any toll free number held by an Internet-based TRS user after June 30, 2009 (marking the end of the registration period). Moreover, any toll free number held by an Internet-based TRS user should, on or before June 30, 2009, point to the user's assigned ten-digit, geographically appropriate number. After June 30, 2009, Internet-based TRS providers may not route calls to users' telephone numbers other than their ten-digit, geographically appropriate numbers that have been associated with the users in the numbering database. To be clear, costs associated with users' toll free numbers will not be compensable and in no event will an Internet-based TRS provider be compensated twice for the same call, such as when an inbound call to a user's toll free number is then routed to that user's ten-digit, geographically appropriate number.

57. The TDI Coalition asserts that the Fund should compensate providers for the acquisition costs of a toll free number and the toll charges in connection with the use of such numbers by Internet-based TRS users. They note that the Fund currently compensates providers for toll charges associated with a toll free call to a relay provider to initiate a relay call, and contend that requiring Internet-based TRS users to pay toll charges associated with calls to their personal toll free number would discourage the use of such numbers for making relay calls. Nothing in the record, however, supports this assertion. In any event, it is reasonable to compensate providers for the cost of toll free calls to their centers by persons initiating a relay call, but not to compensate consumers for the toll costs of personal toll free numbers consumers may choose to use instead of a geographically appropriate ten-digit number. Toll free access to an Internet-based TRS provider's call center offers the equivalent of dial-tone service to voice telephone users who wish to call an Internet-based TRS user who lives in the same local calling area as the caller but who has not yet obtained a ten-digit geographic telephone number. In addition, such toll free access allows an Internet-based TRS user who does have a ten-digit number to place or receive a call via an Internet-based TRS provider other than the user's default provider as a “dial-around” call. Therefore, providing compensation from the Fund to providers for toll free calls in these situations is consistent with the functional equivalency mandate. Providing compensation from the Fund for the use of an individual toll free number is not because there is a cost associated with an individual's use of a toll free number, whether the person is a voice telephone user or an Internet-based TRS user.

58. E911 Charges Imposed Under State or Local E911 Funding Mechanisms. In the Internet-based TRS Order, the Commission concluded that Internet-based TRS providers may seek compensation from the Fund for their actual reasonable costs of complying with the requirements adopted in that order including, among other things, costs directly related to routing emergency calls to an appropriate PSAP and other implementation tasks directly related to emergency call handling. The Further NPRM sought comment on whether any specific costs that result from the requirements adopted in the Internet-based TRS Order should, consistent with the costs paid by voice telephone users, be passed on to consumers, including, for example, E911 charges.

59. Although the Commission concludes that Internet-based TRS providers may continue to seek compensation from the Fund for their actual reasonable costs of complying with the emergency call handling requirements adopted in the Internet-based TRS Order, the Commission concludes that any E911 charges imposed under a state or local E911 funding mechanism are not compensable from the Fund. These charges are generally passed on to voice telephone users, as well as to traditional PSTN-based TRS users, in the form of a small recurring charge on their local telephone bills. As such, to the extent that Internet-based TRS providers incur charges in connection with a state or local E911 funding mechanism, each default Internet-based TRS provider may choose to pass these E911 charges on to registered users of that provider.

60. Number Portability Costs. Section 251(e)(2) of the Act provides that “[t]he cost of establishing telecommunications numbering administration arrangements and number portability shall be borne by all telecommunications carriers on a competitively neutral basis as determined by the Commission.” Through its rules and orders, the Commission has established a cost recovery mechanism for shared local number portability (LNP) costs under section 251(e)(2), and has determined that telecommunications carriers and interconnected VoIP providers should bear such costs on a competitively neutral basis. Under this cost recovery mechanism, shared LNP costs are allocated to carriers and interconnected VoIP providers in proportion to each of those entity's end-user revenues. Interconnected VoIP providers and telecommunications carriers, other than incumbent LECs, are permitted to recover the amount of shared LNP costs allocated to that carrier or provider “in any manner consistent with applicable state and federal laws and regulations.”

61. In the Internet-based TRS Order, the Commission imposed number portability obligations on Internet-based TRS providers and their numbering partners in connection with the numbering plan adopted in that order. At that time, the Commission specifically declined to require Internet-based TRS providers to contribute to shared LNP costs. In doing so, the Commission noted that Internet-based TRS providers would have been unable to recover their costs from end users because, at least at that time, end users were not required to register with an Internet-based TRS provider. Notwithstanding this determination, in the Further NPRM, the Commission sought comment on whether, and to what extent, the costs associated with number portability should be passed on to Internet-based TRS users, and not paid for by the Fund, because these costs “generally are borne by voice telephone users.” The Further NPRM noted that because Internet-based TRS users will now have a default provider—e.g., the provider from which they obtained their number or a provider to which they ported their number—that provider can pass number portability costs to the user.

62. The Commission declines to extend to Internet-based TRS providers the obligation to contribute to shared LNP costs at this time. As noted above, the shared costs of number portability are allocated to interstate telecommunications carriers and interconnected VoIP providers in proportion to each of those entity's end-user revenues (contributors file their revenue information on the FCC Form 499-A, the “Telecommunications Reporting Worksheet”). Unlike those entities, however, Internet-based TRS providers do not have “end-user revenues” and, instead, their costs of providing Internet-based TRS are reimbursed by the Interstate TRS Fund. Therefore, although the Commission believes that Internet-based TRS users should be required to bear number portability costs to the same degree as voice telephone users, the Commission must first determine how to calculate Internet-based TRS providers' share of LNP costs given that these providers have no end-user revenues. Until the Commission can further evaluate how best to allocate shared LNP costs to Internet-based TRS providers, the Commission will not extend to these providers the obligation to make payments toward shared LNP costs. The Commission may elect to revisit this issue in a future order.

G. Petitions for Reconsideration and Clarification Regarding Interoperability and Default Provider Changes

63. CSDVRS, GoAmerica, Viable and Snap Petition for Reconsideration and Clarification. As stated above, on August 15, 2008, CSDVRS, GoAmerica, Viable and Snap filed a Petition for Reconsideration with respect to the obligations of default and former default providers to route information from an Internet-based TRS user who has CPE of one provider, but is using a different provider as his or her default provider (i.e., the user has ported his or her number). The petitioners contend that there is tension between the rule prohibiting a provider that gave out the CPE, but is no longer the default provider, from acquiring routing information from the user, and the rule requiring a provider that has issued CPE to ensure that the CPE delivers the routing information to the user's new default provider. The petitioners claim that once a user ports his or her number to a new default provider, who is not the provider that furnished the CPE, that new provider does not have the ability to collect the routing information from that CPE, cannot update the central numbering directory without the assistance of the provider of the CPE, and certain features and functionalities of the CPE may not work. Accordingly, the petitioners recommend that the Commission revise its rules to give the consumers who have received a video device from a VRS provider the option of either: (1) Continuing to use the video device once they have ported their number with the understanding that their routing information will continue to be provisioned by the original provider that supplied the device (and with the understanding that the device may not retain all the features and functionalities); or (2) acquiring a new device from the new default provider.

64. The TDI Coalition filed comments in response to the Petition for Reconsideration seeking full interoperability and urging Internet-based TRS providers to work to ensure that routing information is directed to the user's default provider. The TDI Coalition also notes that the issues raised in the Petition for Reconsideration regarding number porting will also arise when a user applies for a new NANP number from an Internet-based TRS provider that is not the provider who provided the videophone. The TDI Coalition advocates for extensive consumer outreach to help the deaf and hard-of-hearing community understand how their CPE may be affected if they switch default providers. Hamilton Relay agrees with the petitioners that when a user changes his or her default provider, the new provider does not have the ability to collect the routing information from the user's device. Hamilton Relay does not oppose the recommendations of the petitioners, but also recommends that the Commission clarify that IP-based relay providers that do not distribute their own end-user equipment may use software or commercially available third-party router equipment to route and update IP address information to the central numbering directory provider or similar solutions.

65. Sorenson filed an opposition to the Petition for Reconsideration, stating that the Commission's rules correctly place the responsibility for updating and maintaining routing information on the default provider and limit the information that may be acquired by the former default provider. Sorenson states that “[i]mplementation of the new rules will require development of an industry standard to ensure that each provider can accept routing information delivered by devices distributed by another provider.” In response to Sorenson's opposition, CSDVRS and GoAmerica argue, among other things, that Sorenson has not provided any guidance on the development or timeline of its proposed industry standard to allow any provider to accept routing information delivered by devices distributed by another provider. Sorenson has committed, for one, to move forward to create an industry standard that will “enable each provider to accept routing information delivered by devices distributed by another provider.”

66. The Commission denies the Petition for Reconsideration. The Commission reiterates our conclusion in the Internet-based TRS Order that an Internet-based TRS user's CPE should directly provide necessary routing information to the Internet-based TRS user's default provider. The Commission further clarifies that rule 64.611(e) means that an Internet-based TRS provider's CPE that is being used with a default provider other than the one that issued the CPE must automatically connect with the new default provider just as it did with the previous default provider that provided the CPE. In this situation, the user should not have to manually dial the default provider first, and then dial the called party. Moreover, the CPE must be capable of delivering routing information to the new default provider just as it did to the previous default provider that provided the CPE once the porting process is complete. In addition, at a minimum, an Internet-based TRS provider's CPE that is being used with a new default provider must be capable of: (1) Accepting a URI or IP address that the new provider uses for call setup purposes; and (2) allowing a user to dial a number that the CPE automatically forwards to the new default provider. However, at this time based on the record before the Commission, the Commission disagrees with GoAmerica's request that a default provider that furnishes CPE to a consumer must ensure that the CPE's enhanced features (e.g., missed call list, speed dial list) can be used by the consumer if the consumer ports his or her number to a new default provider and uses the CPE with the new default provider. Providers may offer such features on a competitive basis, which will encourage innovation and competition.

67. Point-to-point calling. The Commission also clarifies a few aspects of providers' responsibilities with regard to point-to-point calling between VRS users. GoAmerica asserts that Sorenson has recently tendered a proposed industry standard that “supports its effort to disable functionality and further restrict consumer choice,” in part because the Sorenson proposal allegedly would not enable a device to continue to originate point-to-point calling after the user's ten-digit number has been ported and the device has been paired with a new default provider. Sorenson replies that the proposed standard that it put forward had been designed under extreme time pressure and had been developed in a way that contemplated how the specification would be enhanced in the future to allow for point-to-point calling. Sorenson states that it is now preparing the additional specifications required to allow users to make point-to-point calls using ten-digit numbers, and will add those to the proposed standard.

68. While point-to-point calls between VRS users are not relay calls, and thus are not compensable from the Fund, they do constitute an important form of communication for many VRS users, and any loss of such basic functionality is simply not acceptable. First, the Commission clarifies that all default providers must support the ability of VRS users to make point-to-point calls without the intervention of an interpreter. Second, the Commission clarifies that all providers must ensure that their devices are capable of making calls after a change in default provider, including point-to-point calls to other VRS users. Thus, all providers who provision equipment must make available to other VRS providers enough information about that equipment to enable any VRS provider to perform all its functions as a default provider, including enabling point-to-point communications between VRS users, whether those users have the same or different default providers. For example, as noted above, Sorenson has stated that it is preparing the additional specifications required to allow users to make point-to-point calls using ten-digit numbers, and will add those to the proposed standard. The Commission expects that Sorenson will do so expeditiously, and the Commission will be monitoring events closely to ensure that this happens. As a corollary to the former default provider's obligations, no provider may begin providing service as a new default provider for a customer until the provider is capable of performing the functions described above and in this paragraph with respect to any device that was being used with the former default provider's service. Finally, the Commission requires that all providers check the Numbering Directory for routing information for ten-digit numbers, other than those of their own users before setting up a relay call or routing the call to the public switched telephone network (PSTN). Checking the Numbering Directory to see whether the user is dialing another registered VRS user—that is, requesting a point-to-point communication—will ensure that providers do not establish a relay call when it is unnecessary and inappropriate to do so.

69. The Commission recognizes that point-to-point communication between registered VRS users is not “telecommunications relay service” as defined in section 225 because it occurs between persons with hearing or speech disabilities, not between a person with such a disability and a hearing person. Nonetheless, the Commission has ample authority to regulate the provision of point-to-point calls between Internet-based TRS subscribers. First, the Commission has authority pursuant to its ancillary jurisdiction. Ancillary jurisdiction may be employed, in the Commission's discretion, when Title I of the Act gives the Commission subject matter jurisdiction over the service to be regulated and the assertion of jurisdiction is “reasonably ancillary to the effective performance of [its] various responsibilities.” As the Commission concluded in the Internet-based TRS Order, the Commission has subject matter jurisdiction over Internet-based TRS services, a form of “interstate communication by wire or radio.” And requiring that providers facilitate point-to-point communications between persons with hearing or speech disabilities is reasonably ancillary to the Commission's responsibilities in several parts of the Act—sections 225, 255, and 1.

70. First, facilitating point-to-point calls furthers the purposes of section 225 itself. Section 225(b)(1) directs the Commission to ensure that relay services are available “[i]n order to carry out the purposes established under section 1, to make available to all individuals in the United States a rapid, efficient nationwide communication service, and to increase the utility of the telephone system of the Nation.” While that section refers to relay services, point-to-point services even more directly support the named purposes: They are more rapid in that they involve direct, rather than interpreted, communication; they are more efficient in that they do not trigger the costs involved with interpretation or unnecessary routing; and they increase the utility of the Nation's telephone system in that they provide direct communication—including all visual cues that are so important to persons with hearing and speech disabilities. Second, section 255—entitled “Access by Persons with Disabilities”—requires that manufacturers of telecommunications equipment or customer premises equipment ensure that “the equipment is designed, developed, and fabricated to be accessible and usable by individuals with disabilities, if readily achievable,” and goes on to require providers of telecommunications services to ensure that their services are similarly usable. These sections both contain clear statements from Congress that it intended persons with disabilities to have the fullest possible access to the Nation's communications system. Requiring point-to-point communications capabilities serves these goals. Third, section 1 itself charges the Commission with making available “so far as possible, to all the people of the United States * * * a rapid, efficient, Nation-wide * * * wire and radio communications service.” Facilitating direct communication—without an unnecessary third-party interpreter—between citizens with hearing or speech disabilities furthers our mandate to make communications available to “all the people.”

71. The Commission encourages Internet-based TRS providers to work together to develop systems and standards that will facilitate compliance with the Commission's rules. To the extent, however, a default provider is unable to meet any mandatory minimum standards under the Commission's rules or prior orders for a new registered user who is using CPE from a former default provider because that new default provider does not have access to the technical information about that user's CPE that would be necessary to provide service in compliance with those rules and orders, the Commission waives those rules for a period of one year (unless the Commission indicates otherwise). This waiver is limited in that it has no effect on the requirements of providers of Internet-based TRS services in general to meet their mandatory minimum standards unless and until they become a default provider for a user who already has CPE from a former default provider, and the new provider lacks sufficient information to provide certain features to that user, such as speed dialing. A temporary, limited waiver is necessary in the public interest so that Internet-based TRS providers may focus on ensuring that ten-digit numbering and E911 services function smoothly at this time of transition to the new ten-digit dialing system. This limited waiver also has no effect on the requirements for all providers to share information about their CPE as required by this Order and to be prepared to provide service to customers who port their numbers in from other providers as required by this Order. The Commission also reiterates the Commission's enforcement authority to resolve any customer complaints that arise from switching default providers. The Commission will act expeditiously to ensure that consumers have the option to switch providers. Finally, the Commission finds that with the clarifications discussed in this section, the Commission does not need to modify any existing rules and therefore, denies the Petition for Reconsideration.

72. CSDVRS Petition for Clarification. CSDVRS also filed a Petition for Clarification requesting clarification that the Commission's rule 64.611(a)(2), which lays out a default provider's call routing obligations, does not negate the requirement that VRS providers provide fully interoperable relay service. CSDVRS claims that the role of the default provider, as set forth in the Internet-based TRS Order, may give default providers the impression that they may make it difficult for consumers to access alternative providers by dialing around, by means such as pop-up screens or warning messages, or degradation of the TRS call, video quality, or video interpreter capabilities. GoAmerica also expresses concern with the interplay of the Commission's default provider rule and the interoperability rule.

73. There is opposition to CSDVRS's Petition for Clarification on the record, arguing that the default provider registration requirement does nothing to undermine the Commission's interoperability rules and regulations, and that prohibiting a specific list of practices is unwarranted. To reiterate and clarify to the extent necessary, under the new numbering system, Internet-based TRS users must be able to dial around to competing providers just as they do today. The Commission agrees with CSDVRS that default providers that distribute equipment may not configure that equipment in a manner that would increase the difficulty of dialing alternative providers beyond what consumers need to do to reach these providers today. The Commission's rule 64.611(a)(2)—which requires that a default provider “route and deliver” a user's inbound and outbound calls, unless the user chooses to place a call with, or receives a call from, an alternate provider—does not inhibit or hinder dial around calling by Internet-based TRS users. Furthermore, a provider may not penalize or retaliate against a consumer who exercises his right to dial around his default provider. The Commission also reiterates the Commission's enforcement authority should consumers be unable to dial around to competing Internet-based TRS providers once the new numbering system is implemented. While CSDVRS's basic point is correct—that consumers need to be able to dial around to any provider without delays, warnings, distractions, or other obstacles that might impede or discourage such calls—the Commission declines at this time to address specific practices without the benefit of a more developed record. Therefore, CSDVRS's Petition for Clarification is granted only to the extent provided herein, and otherwise is denied.

H. Consumer Protection Issues

74. In the Further NPRM, the Commission sought comment on whether to establish rules to protect relay users from unauthorized default provider changes (i.e., “slamming”) and to ensure the privacy and security of relay users' personal information. In response, commenters generally favor the implementation of consumer protection measures to ensure that relay users' default providers are not changed without their consent, and to guard against the unauthorized disclosure of consumer information. For example, TDI Coalition states that, just as a voice telephone user reasonably expects that his or her preferred service provider will not be changed and his personal information will not be disclosed without the user's authorization, an Internet-based TRS user should be entitled to the same expectation. The Commission shares this view and, for this reason, emphasizes that the unauthorized change of an Internet-based TRS user's default provider and the unauthorized disclosure of an Internet-based TRS user's personal information are both prohibited. The Commission anticipates adopting rules more specifically addressing these prohibitions in a future order.

Final Regulatory Flexibility Analysis

75. The Regulatory Flexibility Act of 1980, as amended (RFA), requires that a regulatory flexibility analysis be prepared for rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

76. In this Order, the Commission addresses several issues relating to the assignment and administration of ten-digit numbers for VRS and IP Relay users. Specifically, the Commission addresses 911 implementation issues, registration, use of toll free numbers for Internet-based TRS service, eligibility for numbers for Internet-based TRS service, assignment of telephone numbers, and cost recovery issues. The Commission also addresses a petition for reconsideration filed by CSDVRS, GoAmerica, Viable, and Snap, and a petition for clarification filed by CSDVRS regarding interoperability concerns related to default provider changes, dial-around capabilities, and VRS CPE. The Commission's conclusions in this Order are necessary to ensure that users of Internet-based TRS receive functionally equivalent telephone service, as mandated by Title IV of the Americans with Disabilities Act. The Commission's conclusions are not expected to have a substantial economic impact upon providers, including small businesses, because each small business will receive financial compensation for reasonable costs incurred rather than absorb an uncompensated financial loss or hardship.

77. With regard to whether a substantial number of small entities will be affected by the requirements set forth in this Order, the Commission notes that, of the fourteen providers affected by the Order, only four meet the definition of a small entity. The SBA has developed a small business size standard for Wired Telecommunications Carriers, which consists of all such firms having 1,500 or fewer employees. Currently, fourteen providers receive compensation from the Interstate TRS Fund for providing any form of TRS: Ameritech, AT&T Corp.; CSDVRS; CAC; GoAmerica; Hamilton Relay, Inc.; Hands On; Healinc; Kansas Relay Service, Inc.; Nordia Inc.; Snap Telecommunications, Inc; Sorenson; Sprint; and State of Michigan. Because only four of the providers affected by this Order are deemed to be small entities under the SBA's small business size standard, the Commission concludes that the number of small entities affected is not substantial. Moreover, given that all providers affected by the Order, including the four that are deemed to be small entities under the SBA's standard, are entitled to receive prompt reimbursement for their reasonable costs of compliance, the Commission concludes that the Order will not have a significant economic impact on these small entities.

78. Therefore, the Commission certifies that requirements set forth in the Order will not have a significant economic impact on a substantial number of small entities.

79. The Commission will send a copy of the Order, including a copy of this Final Regulatory Flexibility Certification, to the Chief Counsel for Advocacy of the SBA. This initial certification will also be published in the Federal Register.

Ordering Clauses

80. Accordingly, it is ordered that, pursuant to sections 1, 2, 4(i), 4(j), 225, 251, and 303(r) of the Communications Act of 1934, as amended, 47 U.S.C. 151, 152, 154(i), 154(j), 225, 251, 303(r), this Second Report and Order and Order on Reconsideration is adopted.

81. It is further ordered that, pursuant to sections 1, 2, 4(i), 4(j), 225, 251, and 303(r) of the Communications Act of 1934, as amended, 47 U.S.C. 151, 152, 154(i), 154(j), 225, 251, 303(r), the Petition for Reconsideration and Clarification filed by CSDVRS, LLC, GoAmerica, Inc., Viable, Inc., and Snap Telecommunications, Inc. on August 15, 2008 in CG Docket No. 03-123, WC Docket No. 05-196 is denied.

82. It is further ordered that, pursuant to sections 1, 2, 4(i), 4(j), 225, 251, and 303(r) of the Communications Act of 1934, as amended, 47 U.S.C. 151, 152, 154(i), 154(j), 225, 251, 303(r), the Petition for Clarification filed by CSDVRS, LLC, on August 15, 2008 in CG Docket No. 03-123, WC Docket No. 05-196 is granted only to the extent provided herein, and otherwise denied.

83. It is further ordered that, pursuant to sections 1, 2, 4(i), 4(j), 225, 251, and 303(r) of the Communications Act of 1934, as amended, 47 U.S.C. 151, 152, 154(i), 154(j), 225, 251, 303(r), the Petition for Reconsideration and Clarification filed by Sorenson Communications, Inc., on August 18, 2008 in CG Docket No. 03-123, WC Docket No. 05-196 is granted to the extent described herein.

84. It is further ordered that, pursuant to sections 1, 2, 4(i), 4(j), 225, 251, and 303(r) of the Communications Act of 1934, as amended, 47 U.S.C. 151, 152, 154(i), 154(j), 225, 251, 303(r), the Petition for Limited Waiver filed by Sorenson Communications, Inc., on September 30, 2008 in CG Docket No. 03-123, WC Docket No. 05-196 is denied.

85. It is further ordered that, pursuant to sections 1, 2, 4(i), 4(j), 225, 251, and 303(r) of the Communications Act of 1934, as amended, 47 U.S.C. 151, 152, 154(i), 154(j), 225, 251, 303(r), the Request for Expedited Clarification of Section 64.604(a)(2) of the Rules filed by NENA and APCO on October 24, 2008 in CC Docket No. 98-67, CG Docket No. 03-123, and WC Docket No. 05-196, is granted to the extent described herein.

86. It is further ordered that, pursuant to rule 1.427(b) of the Commission's rules, 47 CFR 1.427(b), this Second Report and Order and Order on Reconsideration shall become effective on December 31, 2008, except for the information collections, which require approval by OMB under the PRA and which shall become effective after the Commission publishes a document in the Federal Register announcing such approval and the relevant effective date(s). As described above, the Commission mandated in the June 24, 2008 Internet-based TRS Order that the new numbering system and emergency call handling requirements be implemented by December 31, 2008. In general, the issues addressed in this Order clarify aspects of the implementation of the new system and affirm prior determinations and are critical to ensuring a smooth transition to the new system. The Commission does not believe that the shortened implementation period will be a significant burden on any affected parties, who are already working to implement the new system described in the June 24, 2008 Internet-based TRS Order. In any event, any burden to the affected parties is outweighed by the need to ensure a smooth transition to the new, more functionally equivalent numbering system for the community of users, including a smooth transition to the new emergency call handling rules.

87. It is further ordered that the Commission's Consumer & Governmental Affairs Bureau, Reference Information Center, shall send a copy of this Second Report and Order and Order on Reconsideration, including the Final Regulatory Flexibility Certification, to the Chief Counsel for Advocacy of the Small Business Administration.

List of Subjects in 47 CFR Part 64

Individuals with disabilities, Reporting and recordkeeping requirements, Telecommunications.

Federal Communications Commission.
William F. Caton,
Deputy Secretary.

Final Rules

For the reasons discussed in the preamble, the Federal Communications Commission amends 47 CFR part 64 to read as follows:

PART 64—MISCELLANEOUS RULES RELATING TO COMMON CARRIERS

1. The authority citation for part 64 continues to read as follows:

Authority: 47 U.S.C. 154, 254(k); secs. 403(b)(2)(B), (c), Public Law 104-104, 110 Stat. 56. Interpret or apply 47 U.S.C. 201, 218, 222, 225, 226, 228, and 254(k) unless otherwise noted.

2. Section 64.605 is amended by revising paragraphs (a)(1) and (b)(1) to read as follows:

§ 64.605 Emergency calling requirements.

(a) * * *

(1) As of December 31, 2008, the requirements of paragraphs (a)(2)(i) and (a)(2)(iv) of this section shall not apply to providers of VRS and IP Relay to which § 64.605(b) applies.

* * * * *

(b) * * *

(1) Scope. The following requirements are only applicable to providers of VRS or IP Relay. Further, the following requirements apply only to 911 calls placed by registered users whose Registered Location is in a geographic area served by a Wireline E911 Network and is available to the provider handling the call.

* * * * *

[FR Doc. E8-30999 Filed 12-23-08; 4:15 pm]

BILLING CODE 6712-01-P